DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[10/20/2014 through 10/22/2014]
Firm name | Firm address | Date accepted for investigation | Product(s)
Kebby Industries, Inc | 4075 Kilburn Avenue, Rockford, IL 61101 | 10/20/2014 | The firm manufactures hand tools and filters for the pharmaceutical, cosmetic, and packaging industries.
Rietech Global, LLC | 3700 Singer Blvd. NE., Suite A, Albuquerque, NM 87109 | 10/20/2014 | The firm manufactures electro-mechanical motion control systems used for search, navigation, and surveillance.
Rio Chan Foods, LLC | 2701 Broadway NE., Suite A, Albuquerque, NM 87107 | 10/20/2014 | The firm manufactures bread, pastry, cakes, and other bakery goods.
Precise Cast Prototypes & Engineering, Inc | 7501 Dahlia Street, Commerce City, CO 80022 | 10/21/2014 | The firm manufactures aluminum castings to be machined.
Lion Brothers Company, Inc | 10246 Reisterstown Road, Owings Mill, PA 21117 | 10/21/2014 | The firm manufactures embroidered patches and emblems.
Olson Companies, Inc. dba A&B Accessories | 899 N. Centennial Avenue, West Fork, AR 72774 | 10/22/2014 | The firm manufactures custom spa, patio and outdoor kitchen wood accessories.
Shelley Kyle Inc | 468 Armour Drive, Atlanta, GA 30324 | 10/22/2014 | The firm manufactures fragrances and toiletries; the primary manufacturing material is essential oil.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: October 22, 2014.
Michael DeVillo,
Eligibility Examiner.

[FR Doc. 2014-25579 Filed 10-27-14; 8:45 am]

BILLING CODE 3510-WH-P